DEPARTMENT OF HEALTH AND HUMAN SERVICES

Centers for Disease Control and Prevention

[30-Day-12-12CO]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an email to omb@cdc.gov. Send written comments to CDC Desk Officer, Office of Management and Budget, Washington, DC or by fax to (202) 395-5806. Written comments should be received within 30 days of this notice.

Proposed Project

Evaluation of the National Tobacco Prevention and Control Public Education Campaign—New—National Center for Chronic Disease Prevention and Health Promotion (NCCDPHP), Centers for Disease Control and Prevention (CDC).

Background and Brief Description

The Centers for Disease Control and Prevention (CDC) requests OMB approval to collect information needed for evaluating the CDC's National Tobacco Prevention and Control Public Education Campaign (The Campaign). This campaign, which is expected to launch in February/March 2012, is the first Federally-funded media campaign in the U.S. that describes the harms from smoking and will feature televised advertisements that will air nationally along with complementary ads on radio, the Internet, in print, and other forms of media.

CDC plans to conduct an initial baseline survey of adults before the launch of The Campaign and a longitudinal follow-up survey of those participants approximately three to four months later. Information will be collected about adult smokers' awareness of and exposure to campaign advertisements, and about their knowledge, attitudes, and beliefs related to smoking and secondhand smoke. In addition, the survey will measure behaviors related to smoking cessation and behaviors related to interpersonal communication about smoking. Information will also be collected on demographic variables including age, sex, race, education, income, primary language, and marital status.

Data from this survey will be used to estimate the extent to which smokers and non-smokers in the U.S. were exposed to The Campaign and to examine the statistical relationships between adults' exposure to The Campaign and changes in outcome variables of interest including attempts to quit smoking.

Information will be collected through on-line questionnaires involving adult smokers and non-smokers in the U.S., ages 18-54. Respondents who are smokers will be recruited from two sources: a probability sample drawn from the Knowledge Networks KnowledgePanel®, a panel that uses address-based postal mail sampling to generate a probability-based online panel of U.S. adults, and a supplemental sample from SSI, a leading provider of online sampling in the U.S. Respondents who are non-smokers will be recruited from Knowledge Networks. The target number of complete pre-/post-campaign questionnaires for smokers is 5,000. The target number of complete pre-/post-campaign questionnaires for non-smokers is 2,000.

To obtain the target number of complete pre-/post-campaign responses, approximately 34,660 respondents will be contacted through an initial screening and consent process. The estimated burden per response is two minutes.

An estimated 11,600 smokers will be recruited to complete the Smoker Baseline Questionnaire in order to yield 5,000 completed post-campaign Smoker Follow-Up Questionnaires. An estimated 2,666 non-smokers will be recruited to complete the Non-smoker Baseline Questionnaire in order to yield 2,000 completed post-campaign Non-smoker Follow-up Questionnaires. For both respondent groups, the estimated burden per response is 25 minutes for each baseline questionnaire. In addition, the estimated burden per response is 25 minutes for each post-campaign (follow-up) questionnaire.

Data from this information collection will be used to estimate awareness of and exposure to The Campaign among smokers and non-smokers nationally as well as among the planned subset of smokers in high-delivery geographic areas for The Campaign. These estimates will take the form of self-reported ad recognition and recall estimates that assess basic exposure as well as frequency of ad exposure. Data from this information collection will also be used to examine statistical associations between exposure to The Campaign and pre-post changes in specific outcomes of interest which will include knowledge, attitudes, beliefs and intentions related to smoking and cessation as well as behavioral outcomes including quit attempts and cigarette consumption.

OMB approval is requested for one year. There are no costs to respondents other than their time. The total estimated burden hours are 10,015.

Estimated Annualized Burden Hours
Type of respondent | Form name | Number of respondents | Number of responses per respondent | Average burden per response (in hours)
General Population | Screening and Consent Process | 34,660 | 1 | 2/60
Adults, ages 18-54 in the U.S. | Smoker Baseline Questionnaire | 11,600 | 1 | 25/60
| Smoker Follow-Up Questionnaire | 5,000 | 1 | 25/60
| Non-Smoker Baseline Questionnaire | 2,666 | 1 | 25/60
| Non-Smoker Follow-up Questionnaire | 2,000 | 1 | 25/60

Dated: December 29, 2011.
Daniel Holcomb,
Reports Clearance Officer, Centers for Disease Control and Prevention.

[FR Doc. 2011-33799 Filed 1-4-12; 8:45 am]

BILLING CODE 4163-18-P